DEPARTMENT OF TRANSPORTATION

Federal Aviation Administration

14 CFR Part 71

[Docket No. FAA-2011-0376; Airspace Docket No. 10-AEA-11]

RIN 2120-AA66

Amendment and Establishment of Air Traffic Service Routes; Northeast United States

AGENCY: Federal Aviation Administration (FAA), DOT.

ACTION: Final rule; correction

SUMMARY: This action corrects a final rule published by the FAA in the Federal Register on September 19, 2011, that amends and establishes nine Air Traffic Service Routes (ATS) in the Northeast United States. This action provides more accurate latitude/longitude coordinates for one waypoint (WP) in the description of area navigation (RNAV) route Q-480.

DATES: Effective date 0901 UTC, December 15, 2011. The Director of the Federal Register approves this incorporation by reference action under 1 CFR part 51, subject to the annual revision of FAA Order 7400.9 and publication of conforming amendments.

FOR FURTHER INFORMATION CONTACT: Paul Gallant, Airspace, Regulations and ATC Procedures Group, Office of Airspace Services, Federal Aviation Administration, 800 Independence Avenue SW., Washington, DC 20591; telephone: (202) 267-8783.

SUPPLEMENTARY INFORMATION:

Background

On September 19, 2011, the FAA published a final rule in the Federal Register amending and establishing nine ATS routes in the northeast United States (76 FR 57902). Subsequent to publication a more accurate alignment was calculated for the establishment of the CANDR WP position of RNAV route Q-480. The refined coordinates result in a minor change of the CANDR position that is 0.28 nautical miles (NM) north of the original location. This equates to a move of approximately 1,700 feet which is well within the standard 8 NM width of RNAV routes. Since the coordinates in air traffic service route descriptions are rounded to the nearest second, the amended CANDR position is listed as “lat. 40°58′16″ N., long. 74°57′35″ W.”

Area Navigation Routes are published in paragraph 2006 of FAA Order 7400.9V, dated August 9, 2011, and effective September 15, 2011, which is incorporated by reference in 14 CFR 71.1. The RNAV route listed in this document will be published subsequently in the Order.

Correction to Final Rule

Accordingly, pursuant to the authority delegated to me, the coordinates for the CANDR waypoint as published in the Federal Register on September 19, 2011 (76 FR 57902) (FR Doc. 2011-23839) for RNAV route Q-480, is corrected under the description as follows:

Paragraph 2006—United States Area Navigation Routes

* * * * *

Q-480 [Corrected]

On page 57905, line 38, Remove “CANDR, NJ WP (lat. 40°57′59″ N., long. 74°57′29″ W.)”and insert “CANDR, NJ WP (lat. 40°58′16″ N., long. 74°57′35″ W.)

Issued in Washington, DC, on November 16, 2011.
Gary A. Norek,
Acting Manager, Airspace, Regulations and ATC Procedures Group.

[FR Doc. 2011-30500 Filed 11-25-11; 8:45 am]

BILLING CODE 4910-13-P